DEPARTMENT OF HEALTH AND HUMAN SERVICES

National Institutes of Health

Office of the Secretary; Notice of Meeting

Pursuant to section 1009 of the Federal Advisory Committee Act, as amended, notice is hereby given of a meeting of the National Science Advisory Board for Biosecurity.

The meeting will be held as a virtual meeting and will be open to the public as indicated below. Individuals who plan to view the virtual meeting and need special assistance or other reasonable accommodations to view the meeting should notify the Contact Person listed below in advance of the meeting. The meeting will be videocast and can be accessed from the NIH Videocasting and Podcasting website (http://videocast.nih.gov/).

Name of Committee: National Science Advisory Board for Biosecurity.

Date: November 21, 2024.

Time: 1:00 p.m. to 2:00 p.m.

Agenda: The National Science Advisory Board for Biosecurity meeting will include a review of a new charge to the committee and discussion of next steps for the committee.

Address: National Institutes of Health, 6705 Rockledge Drive, Suite 630, Bethesda, MD 20892.

Meeting Format: Virtual Meeting.

Meeting Access: https://osp.od.nih.gov/policies/national-science-advisory-board-for-biosecurity-nsabb#tab3/.

Contact Person: Cari Young, ScM, Office of Science Policy, Office of the Director, National Institutes of Health, 6705 Rockledge Drive, Suite 630, Bethesda, MD 20892, 301-496-9838, SciencePolicy@od.nih.gov.

This notice is being published less than 15 days from the meeting date due to exceptional circumstances which did not allow sufficient time to submit the notice within the typical lead time required for publication. The National Science Advisory Board for Biosecurity meeting will include review of a new charge to the committee that, in keeping with the committee's charter, is of vital importance to biomedical research, public health, and national security. If the meeting is not held on November 21, 2024, committee members and participants with the requisite scientific, technical, public health, biodefense, and national security expertise will be unable to participate due to scheduling conflicts. Information is also available on the Institute's/Center's home page: https://osp.od.nih.gov/policies/national-science-advisory-board-for-biosecurity-nsabb#tab3/, where an agenda and any additional information for the meeting will be posted when available.

Dated: November 7, 2024.
David W. Freeman,
Supervisory Program Analyst, Office of Federal Advisory Committee Policy.

[FR Doc. 2024-26268 Filed 11-12-24; 8:45 am]

BILLING CODE 4140-01-P